DEPARTMENT OF EDUCATION

34 CFR Chapter III

[Catalog of Federal Domestic Assistance (CFDA) Number: 84.326Z.]

Final Waiver and Extension of the Project Period for the Technical Assistance Coordination Center

AGENCY: Office of Special Education Programs (OSEP), Office of Special Education and Rehabilitative Services, Department of Education.

ACTION: Final waiver and extension of the project period.

SUMMARY: The Secretary waives the requirements in the Education Department General Administrative Regulations that generally prohibit project periods exceeding five years and extensions of project periods involving the obligation of additional Federal funds. This waiver and extension of the project period enables the currently funded Technical Assistance Coordination Center (Center) to receive funding from October 1, 2013, through September 30, 2014.

DATES: The waiver and extension of the project period are effective September 18, 2013.

FOR FURTHER INFORMATION CONTACT: David Guardino, U.S. Department of Education, 400 Maryland Avenue SW., Room 4106, Potomac Center Plaza, Washington, DC 20202-2600. Telephone: (202) 245-6209.

If you use a telecommunications device for the deaf or a text telephone, call the Federal Relay Service, toll free, at 1-800-877-8339.

SUPPLEMENTARY INFORMATION: On August 2, 2013, we published a notice in the Federal Register (78 FR 46860) proposing an extension of project period and a waiver of 34 CFR 75.250 and 75.261(a) and (c)(2) in order to—

(1) Enable the Secretary to provide additional funds to the currently funded Center for an additional 12-month period, from October 1, 2013, through September 30, 2014; and

(2) Request comments on the proposed extension of project period and waiver.

There are no substantive differences between the proposed waiver and extension and this final waiver and extension.

Public Comment

In response to our invitation in the notice of proposed waiver and extension of the project period, we did not receive any substantive comments. Generally, we do not address comments that raise concerns not directly related to the proposed waiver and extension of project period.

Background

On June 5, 2008, the Department published a notice in the Federal Register (73 FR 32016) inviting applications for new awards for fiscal year (FY) 2008 for a Technical Assistance Coordination Center (Center). The Center was funded under the Technical Assistance and Dissemination to Improve Services and Results for Children with Disabilities (TA&D) program, authorized under section 663 of the Individuals with Disabilities Education Act (IDEA). Its purpose is to support ongoing communication, collaboration, and coordination among the centers in the OSEP-funded TA&D Network, and between these centers and other relevant federally funded TA&D centers, national professional organizations, and a broad spectrum of stakeholders. Approximately 30 OSEP-funded centers comprise the TA&D Network and provide technical assistance (TA) covering a variety of areas to State educational agencies (SEAs), local educational agencies (LEAs), Part C State lead agencies, early intervention service (EIS) programs and providers, families of children with disabilities, and others to improve services and outcomes for children served under Part B and Part C of IDEA.

Based on the selection criteria published in the 2008 notice inviting applications, the Department made one award for a period of 60 months to the Academy for Educational Development, Inc. (now FHI 360) to establish the Center, which is currently known as the Technical Assistance Coordination Center.

The Center has two broad goals:

(1) Create a resource center where the various TA&D centers funded by OSEP and other Federal agencies that provide assistance and support to States, LEAs, EIS programs and providers, and stakeholders in the field can store and share information and resources developed by TA providers.

(2) Support OSEP in developing a comprehensive network integrating a variety of relevant federally funded centers, professional organizations, and other stakeholders to collaborate, solve problems together, and exchange knowledge and expertise.

The Center accomplishes this work by: (a) Creating ongoing opportunities to promote coordination, communication, and collaboration among OSEP-funded TA centers and other federally funded TA centers through various workgroups, meetings, listservs, and TA communities of practice; (b) maintaining a Web site that houses tools that TA&D Network projects have developed or can use in their TA delivery (e.g., product database, discretionary database, and TA&D Network Web site search); and (c) sharing knowledge of best practices in collaboration with the TA&D Network and other federally funded TA centers.

The Center's current project period is scheduled to end on September 30, 2013. We do not believe that it would be in the public interest to run a competition for a new Center this year because the Department is planning to change the organization of its TA activities to better coordinate Federal TA activities to meet the needs of children with disabilities. We also have concluded that it would be contrary to the public interest to have a lapse in the provision of TA services currently provided by the Center pending the changes to the organization of the Department's TA activities. For these reasons, the Secretary waives the requirements in 34 CFR 75.250, which prohibit project periods exceeding five years, and waives the requirements in 34 CFR 75.261(a) and (c)(2), which allow the extension of a project period only if the extension does not involve the obligation of additional Federal funds. The waiver allows the Department to issue a continuation award in the amount of $1,299,827 to FHI 360 for an additional 12-month period, which should ensure that the Center's support of, and collaboration and coordination with, the Federal TA&D centers will not be interrupted.

Any activities to be carried out during the year of the continuation award would have to be consistent with, or be a logical extension of, the scope, goals, and objectives of the grantee's application as approved in the 2008 Technical Assistance Coordination Center competition.

The requirements applicable to continuation awards for this competition, set forth in the June 5, 2008, notice inviting applications, and the requirements in 34 CFR 75.253 apply to any continuation awards sought by the current Technical Assistance Coordination Center grantee. We base our decisions regarding a continuation award on the program narrative, budget, budget narrative, and program performance report submitted by the current grantee, and the requirements in 34 CFR 75.253.

Waiver of Delayed Effective Date

The Administrative Procedure Act requires that a substantive rule must be published at least 30 days before its effective date, except as otherwise provided for good cause (5 U.S.C. 553(d)(3)). We received no substantive comments on the proposed waiver and extension of project period, and we have not made any substantive changes to the proposed waiver and extension of project period. The Secretary has made a determination to waive the delayed effective date to ensure provision of TA services currently provided by the Center pending the changes to the organization of the Department's TA activities.

Regulatory Flexibility Act Certification

The Secretary certifies that this waiver and extension of the project period would not have a significant economic impact on a substantial number of small entities.

The only entity that would be affected by this waiver and extension of the project period is the current grantee.

The Secretary certifies that this waiver and final extension would not have a significant economic impact on this entity because the extension of an existing project imposes minimal compliance costs, and the activities required to support the additional year of funding would not impose additional regulatory burdens or require unnecessary Federal supervision.

Paperwork Reduction Act of 1995

This notice of final waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 13, 2013.
Sue Swenson,
Deputy Assistant Secretary for Special Education and Rehabilitative Services, delegated the authority to perform the functions and duties of the Assistant Secretary for Special Education and Rehabilitative Services.

[FR Doc. 2013-22714 Filed 9-17-13; 8:45 am]

BILLING CODE 4000-01-P